DEPARTMENT OF THE INTERIOR

Fish and Wildlife Service

Receipt of Application of Endangered Species Recovery Permits

AGENCY: Fish and Wildlife Service, Interior.

ACTION: Notice of availability and receipt of applications.

SUMMARY: We announce our receipt of applications to conduct certain activities pertaining to enhancement of survival of endangered species.

DATES: Written comments on this request for a permit must be received by May 7, 2007.

ADDRESSES: Written data or comments should be submitted to the U.S. Fish and Wildlife Service, Assistant Regional Director, Fisheries-Ecological Services, P.O. Box 25486, Denver Federal Center, Denver, Colorado 80225-0486; facsimile 303-236-0027. Documents and other information submitted with these applications are available for review, subject to the requirements of the Privacy Act [5 U.S.C. 552A] and Freedom of Information Act [5 U.S.C. 552], by any party who submits a request for a copy of such documents within 30 days of the date of publication of this notice to Kris Olsen, by mail or by telephone at 303-236-4256. All comments received from individuals become part of the official public record.

SUPPLEMENTARY INFORMATION: The following applicants have requested issuance of enhancement of survival permits to conduct certain activities with endangered species pursuant to section 10(a)(1)(A) of the Endangered Species Act of 1973, as amended (16 U.S.C. 1531 et seq.).

Applicant—Western Transportation Institute, Montana State University, Bozeman, Montana, TE-150365. The applicant requests a permit to take Topeka shiner (Notropis topeka) in conjunction with recovery activities throughout the species' range for the purpose of enhancing its survival and recovery.

Applicant—Sternberg Museum, Hays, Kansas, TE-150363. The applicant requests a permit to take gray bat (Myotis grisescens), Indiana bat (Myotis sodalis), and black-footed ferret (Mustela nigripes) in conjunction with recovery activities throughout the species' range for the purpose of enhancing their survival and recovery.

Applicant—U.S. Geological Survey, Biological Resources Division, Cortland, New York, TE-150352. The applicant requests a permit to take pallid sturgeon (Scaphirhynchus albus) in conjunction with recovery activities throughout the species' range for the purpose of enhancing its survival and recovery.

Applicant—U.S. Geological Survey, Northern Prairie Wildlife Research Center, Jamestown, North Dakota, TE-121914. The applicant requests a permit amendment to modify survey and banding techniques for Interior least terns (Sternula antillarum), piping plovers (Charadrius melodus), and pallid sturgeon (Scaphirhynchus albus) in conjunction with recovery activities throughout the species' range for the purpose of enhancing their survival and recovery.

Applicant—U.S. Fish and Wildlife Service, Great Plains Fish and Wildlife Management Assistance Office, Pierre, South Dakota, TE-056851. The applicant requests a renewed permit to take pallid sturgeon (Scaphirhynchus albus) in conjunction with recovery activities throughout the species' range for the purpose of enhancing its survival and recovery.

Applicant—Department of the Army, Conservation Division, Ft. Riley, Kansas, TE-049623. The applicant requests a renewed permit to take Topeka shiner (Notropis topeka) in conjunction with recovery activities throughout the species' range for the purpose of enhancing its survival and recovery.

Applicant—National Park Service, Zion National Park, Springdale, Utah, TE-057485. The applicant requests a renewed permit to take Holmgren milk-vetch (Astragalus holmgreniorum), Shivwitz milk-vetch (Astragalus ampullarioides), and Southwestern willow flycatcher (Empidonax traillii extimus) in conjunction with recovery activities throughout the species' range for the purpose of enhancing their survival and recovery.

Dated: March 21, 2007.
Elliott N. Sutta,
Acting Regional Director, Denver, Colorado.

[FR Doc. E7-6341 Filed 4-4-07; 8:45 am]

BILLING CODE 4310-55-P